DEPARTMENT OF AGRICULTURE

Forest Service

Plumas County Resource Advisory Committee (RAC)

AGENCY: Forest Service, USDA.

ACTION: Notice of meeting.

SUMMARY: The Plumas County Resource Advisory Committee (RAC) will hold a meeting on November 12, 2004 in Quincy, California. The purpose of the November 12 meeting is to review the last funding cycle (five) authorized by the Payments to States legislation. Outreach for the funding cycle will start in early 2005 with projects funded in 2006. Three new members will also be welcomed to the committee, which is starting its second term.

DATES & ADDRESSES: The November 12 meeting will take place from 9-12 a.m., in the Mineral Building at the Plumas-Sierra County Fairgrounds, 204 Fairgrounds Road, Quincy, California.

FOR FURTHER INFORMATION CONTACT: Lee Ann Schramel Taylor, Forest Coordinator, USDA, Plumas National Forest, P.O. Box 11500/159 Lawrence Street, Quincy, CA 95971; (530) 283-7850; or by e-mail eataylor@fs.fed.us.

SUPPLEMENTARY INFORMATION: Agenda items for the March 19 meeting include: (1) Updates on second committee term; (2) Recognition for outgoing members; (3) Transition discussion for incoming members; (4) Cycle 5 funding planning; (5) Updates on the Plumas County Fire Assessment & Strategy; (6) Chair & Vice Chair nomination/elections; and (7) Future meeting schedule/logistics/agenda.

The meetings are open to the public and individuals may address the Committee after being recognized by the Chair. Other RAC information including previous meeting agendas and minutes may be obtained at http://www.fs.fed.us/payments.

Dated: October 29, 2004.
Robert G. MacWhorter,
Deputy Forest Supervisor.

[FR Doc. 04-24714 Filed 11-4-04; 8:45 am]

BILLING CODE 3410-11-M